NATIONAL SCIENCE FOUNDATION

National Science Board; Committee on Nominations

Date and Time: April 21, 4:30 p.m. to 5:30 p.m.

Place: National Science Foundation, Room 1220, 4201 Wilson Boulevard, Arlington, VA 22230.

Status: This meeting will be closed to the public.

Matters To Be Considered:

Wednesday, April 21, 2004

Closed Session (4:30 p.m. to 5:30 p.m.)

Discussion of candidates for NSB Chairman and Vice Chairman.

FOR FURTHER INFORMATION CONTACT: Michael P. Crosby, Ph.D., Director, National Science Board Office and Executive Officer, (703) 292-7000, http://www.nsf.gov/nsb.

Michael P. Crosby,
Director, National Science Board Office and Executive Officer.

[FR Doc. 04-9369 Filed 4-21-04; 11:17 am]

BILLING CODE 7555-01-M